DEPARTMENT OF TRANSPORTATION

Federal Aviation Administration

14 CFR Part 71

[Docket No. FAA-2022-0714; Airspace Docket No. 22-AGL-23]

RIN 2120-AA66

Amendment of Class D and Class E Airspace; Mansfield, OH

AGENCY: Federal Aviation Administration (FAA), DOT.

ACTION: Final rule.

SUMMARY: This action amends the Class D and Class E airspace at Mansfield, OH. The FAA is taking this action due to a biennial airspace review. The geographic coordinates of the Mansfield VORTAC are also being updated to coincide with the FAA's aeronautical database.

DATES: Effective 0901 UTC, November 3, 2022. The Director of the Federal Register approves this incorporation by reference action under 1 CFR part 51, subject to the annual revision of FAA Order JO 7400.11 and publication of conforming amendments.

ADDRESSES: FAA Order JO 7400.11F, Airspace Designations and Reporting Points, and subsequent amendments can be viewed online at www.faa.gov/air_traffic/publications/. For further information, you can contact the Airspace Policy Group, Federal Aviation Administration, 800 Independence Avenue SW, Washington, DC 20591; telephone: (202) 267-8783.

FOR FURTHER INFORMATION CONTACT: Jeffrey Claypool, Federal Aviation Administration, Operations Support Group, Central Service Center, 10101 Hillwood Parkway, Fort Worth, TX 76177; telephone (817) 222-5711.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it amends the Class D airspace, the Class E surface airspace, and the Class E airspace extending upward from 700 feet above the surface at Mansfield Lahm Municipal Airport, Mansfield, OH, to support instrument flight rule operations at this airport.

History

The FAA published a notice of proposed rulemaking in the Federal Register (87 FR 35470; June 10, 2022) for Docket No. FAA-2022-0714 to amend the Class D and Class E airspace at Mansfield, OH. Interested parties were invited to participate in this rulemaking effort by submitting written comments on the proposal to the FAA. No comments were received.

Class D and E airspace designations are published in paragraphs 5000, 6002, and 6005, respectively, of FAA Order JO 7400.11F, dated August 10, 2021, and effective September 15, 2021, which is incorporated by reference in 14 CFR 71.1. The Class D and E airspace designations listed in this document will be published subsequently in FAA Order JO 7400.11.

Availability and Summary of Documents for Incorporation by Reference

This document amends FAA Order JO 7400.11F, Airspace Designations and Reporting Points, dated August 10, 2021, and effective September 15, 2021. FAA Order JO 7400.11F is publicly available as listed in the ADDRESSES section of this document. FAA Order JO 7400.11F lists Class A, B, C, D, and E airspace areas, air traffic service routes, and reporting points.

The Rule

This amendment to 14 CFR part 71:

Amends the Class D airspace at Mansfield Lahm Municipal Airport, Mansfield, OH, by removing the Mansfield VORTAC and associated extension from the airspace legal description as they are no longer needed; and replaces the outdated terms “Notice to Airmen” with “Notice to Air Missions” and “Airport/Facility Directory” with “Chart Supplement”;

Amends the Class E surface airspace at Mansfield Lahm Municipal Airport by removing the Mansfield VORTAC and associated extension from the airspace legal description as they are no longer needed; and adds missing part-time language to the airspace legal description;

And amends the Class E airspace extending upward from 700 feet above the surface at Mansfield Lahm Municipal Airport by removing the extensions to the southeast, northwest, and southwest of the airport from the airspace legal description as they are no longer needed; amends the extension northeast of the airport to within 2 (decreased from 4) miles each side of the 047° bearing from the airport extending from the 6.9-mile radius of the airport to 8.9 (decreased from 11.2) miles northeast of the airport; amends the extension southeast of the VORTAC to within 9.9 miles northeast and 6.1 miles southwest (previously 4.4 miles each side) of the Mansfield VORTAC 133° (previously 130°) radial extending from the 6.9-mile radius of the airport to 19 (increased from 13.8) miles southeast of the VORTAC; amends the extension northwest of the VORTAC to within 9.9 miles southwest and 6.1 miles northeast (previously 6.1 miles each side) of the Mansfield VORTAC 310° (previously 307°) radial extending from the 6.9-mile radius of the airport to 10 (decreased from 13.3) miles northwest of the VORTAC; removes the cities associated with the airports in the airspace legal description to comply with changes to FAA Order JO 7400.2N, Procedures for Handling Airspace Matters; and updates the geographic coordinates of the Mansfield VORTAC to coincide with the FAA's aeronautical database.

This action is due to a biennial airspace review.

FAA Order JO 7400.11, Airspace Designations and Reporting Points, is published yearly and effective on September 15.

Regulatory Notices and Analyses

The FAA has determined that this regulation only involves an established body of technical regulations for which frequent and routine amendments are necessary to keep them operationally current, is non-controversial and unlikely to result in adverse or negative comments. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5.a. This airspace action is not expected to cause any potentially significant environmental impacts, and no extraordinary circumstances exist that warrant preparation of an environmental assessment.

Lists of Subjects in 14 CFR 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order JO 7400.11F, Airspace Designations and Reporting Points, dated August 10, 2021, and effective September 15, 2021, is amended as follows:

Paragraph 5000 Class D Airspace.

* * * * *

AGL OH D Mansfield, OH [Amended]

Mansfield Lahm Municipal Airport, OH

(Lat. 40°49′17″ N, long. 82°31′00″ W)

That airspace extending from the surface to and including 3,800 feet MSL within a 4.4-mile radius of the Mansfield Lahm Airport. This Class D airspace area is effective during the specific dates and times established in advance by Notice to Air Missions. The effective dates and times will thereafter be continuously published in the Chart Supplement.

Paragraph 6002 Class E Airspace Areas Designated as Surface Areas.

* * * * *

AGL OH E2 Mansfield, OH [Amended]

Mansfield Lahm Regional Airport, OH

(Lat. 40°49′17″ N, long. 82°31′00″ W)

Within a 4.4-mile radius of Mansfield Lahm Regional Airport. This Class E airspace area is effective during the specific dates and times established in advance by Notice to Air Missions. The effective dates and times will thereafter be continuously published in the Chart Supplement.

Paragraph 6005 Class E Airspace Areas Extending Upward From 700 Feet or More Above the Surface of the Earth.

* * * * *

AGL OH E5 Mansfield, OH [Amended]

Mansfield Lahm Regional Airport, OH

(Lat. 40°49′17″ N, long. 82°31′00″ W)

Galion Municipal Airport, OH

(Lat. 40°45′12″ N, long. 82°43′26″ W)

Shelby Community Airport, OH

(Lat. 40°52′22″ N, long. 82°41′51″ W)

Willard Airport, OH

(Lat. 41°02′20″ N, long. 82°43′28″ W)

Mansfield VORTAC

(Lat. 40°52′07″ N, long. 82°35′27″ W)

That airspace extending upward from 700 feet above the surface within a 6.9-mile radius of Mansfield Lahm Regional Airport; and within 2 miles each side of the 047° bearing from Mansfield Lahm Regional Airport extending from the 6.9-mile radius to 8.9 miles northeast of the airport; and within 9.9 miles northeast and 6.1 miles southwest of the Mansfield VORTAC 133° radial extending from the 6.9-mile radius of Mansfield Lahm Regional Airport to 19 miles southeast of the Mansfield VORTAC; and within 9.9 miles southwest and 6.1 miles northeast of the Mansfield VORTAC 310° radial extending from the 6.9-mile radius of Mansfield Lahm Regional Airport to 10 miles northwest of the Mansfield VORTAC; and within a 6.3-mile radius of Galion Municipal Airport, and within a 6.3-mile radius of Shelby Community Airport, and within a 6.3-mile radius of Willard Airport.

Issued in Fort Worth, Texas, on August 22, 2022.
Martin A. Skinner,
Acting Manager, Operations Support Group, ATO Central Service Center.

[FR Doc. 2022-18341 Filed 8-25-22; 8:45 am]

BILLING CODE 4910-13-P